DEPARTMENT OF HOMELAND SECURITY

U.S. Customs and Border Protection

[1651-0077]

Agency Information Collection Activities: Customs-Trade Partnership Against Terrorism (C-TPAT) and the Trusted Trader Program; Correction

AGENCY: U.S. Customs and Border Protection (CBP), Department of Homeland Security.

ACTION: 30-Day notice and request for comments; Extension of an existing collection of information; correction.

SUMMARY: On June 5, 2019, U.S. Customs and Border Protection (CBP) published a document in the Federal Register requesting comments from the public and affected agencies on Customs-Trade Partnership Against Terrorism (C-TPAT) and the Trusted Trader Program. That document contained an error in the subject heading. This document corrects the June 5, 2019 document to reflect the correct subject heading.

FOR FURTHER INFORMATION CONTACT: Seth Renkema, Chief, Economic Impact Analysis Branch, U.S. Customs and Border Protection, Office of Trade, Regulations and Rulings, 90 K Street NE, 10th Floor, Washington, DC 20229-1177, Telephone number (202) 325-0056 or via email CBP_PRA@cbp.dhs.gov. Please note that the contact information provided here is solely for questions regarding this notice. Individuals seeking information about other CBP programs should contact the CBP National Customer Service Center at 877-227-5511, (TTY) 1-800-877-8339, or CBP website at https://www.cbp.gov/.

Background

On June 5, 2019, U.S. Customs and Border Protection (CBP) published in the Federal Register a document requesting comments from the public and affected agencies on Customs-Trade Partnership Against Terrorism (C-TPAT) and the Trusted Trader Program. 84 FR 26130. That document contained an error in the subject heading by referring to the “Trusted Trader Program” as the “Trusted Traveler Program.” This correction is being issued to clarify that the agency information collection relates to the Customs-Trade Partnership Against Terrorism (C-TPAT) and the Trusted Trader Program.

Correction

In the Federal Register of June 5, 2019, in the document at 84 FR 26130, in the first column, correct the subject heading to read:

Subject Heading: Agency Information Collection Activities: Customs-Trade Partnership Against Terrorism (C-TPAT) and the Trusted Trader Program.

Dated: June 13, 2019.
Seth D. Renkema,
Branch Chief, Economic Impact Analysis Branch, U.S. Customs and Border Protection.

[FR Doc. 2019-12940 Filed 6-18-19; 8:45 am]

BILLING CODE 9111-14-P